Proclamation 7366 of October 14, 2000

National Forest Products Week, 2000

By the President of the United States of America

A Proclamation

In the early years of the 20th century, President Theodore Roosevelt challenged his fellow citizens to begin the vital task of conserving the precious natural resources with which America has been so abundantly blessed. As part of his notable conservation achievements, he consolidated 65 million acres of Federal forest reserves into the National Forest System and created the United States Forest Service to provide wise stewardship of these lands for future generations.

Today, the National Forest System comprises more than 190 million acres of forests and grasslands, a priceless remnant of the great wilderness that once stretched across our country. Whether sustaining ecosystems, supplying water, providing lumber, or offering recreation, these precious areas benefit millions of Americans.

We must continue to sustain the health and beauty of the forestlands President Roosevelt first set aside for us so many decades ago. I am proud that my Administration has made significant progress in improving the management of Federal forestlands. With science-based planning and research, we have sought to achieve a balance between strengthening protections for wildlife and water quality and providing a steady, sustainable supply of the building materials, paper products, and other commodities we need to meet the challenges of our growing economy.

America's forests have always offered us unique and irreplaceable benefits. They are a treasured inheritance, and we must ensure in this new century that our policies and actions sustain this precious legacy for the prosperity and well-being of generations to come.

To recognize the importance of our forests in ensuring the long-term welfare of our Nation, the Congress, by Public Law 86-753 (36 U.S.C. 123), has designated the week beginning on the third Sunday in October of each year as “National Forest Products Week” and has authorized and requested the President to issue a proclamation in observance of this week.

NOW, THEREFORE, I, WILLIAM J. CLINTON, President of the United States of America, do hereby proclaim October 15 through October 21, 2000, as National Forest Products Week. I call upon all Americans to observe this week with appropriate ceremonies and activities.

IN WITNESS WHEREOF, I have hereunto set my hand this fourteenth day of October, in the year of our Lord two thousand, and of the Independence of the United States of America the two hundred and twenty-fifth.

wj

[FR Doc. 00-27112

Filed 10-18-00; 8:45 am]

Billing code 3195-01-P